ENVIRONMENTAL PROTECTION AGENCY

[ER-FRL-9054-5]

Environmental Impact Statements; Notice of Availability

Responsible Agency: Office of Federal Activities, General Information 202-564-5632 or https://www.epa.gov/nepa.

Weekly receipt of Environmental Impact Statements (EIS)

Filed December 14, 2020 10 a.m. EST Through December 17, 2020 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20200262, Draft, USFS, ID, Caribou-Targhee National Forest and Curlew National Grassland Integrated Weed Management Analysis, Comment Period Ends: 02/08/2021, Contact: Heidi Heyrend 208-847-0375.

Amended Notice

EIS No. 20200223, Draft, NRC, NM, Disposal of Mine Waste at the United Nuclear Corporation Mill Site in McKinley County, New Mexico, Comment Period Ends: 02/26/2021, Contact: Ashley Waldron 301-415-7317.

Revision to FR Notice Published 11/13/2020; Extending the Comment Period from 12/28/2020 to 02/26/2021.

Dated: December 17, 2020.
Cindy S. Barger,
Director, NEPA Compliance Division, Office of Federal Activities.

[FR Doc. 2020-28352 Filed 12-22-20; 8:45 am]

BILLING CODE 6560-50-P